DEPARTMENT OF HOMELAND SECURITY

Coast Guard

33 CFR Part 165

[Docket No. USCG-2023-0233]

Safety Zones; Annual Events in the Captain of the Port Buffalo Zone

AGENCY: Coast Guard, DHS.

ACTION: Notification of enforcement of regulations.

SUMMARY: The Coast Guard will enforce multiple safety zones located in federal regulations for recurring marine events taking place in July 2023. This action is necessary and intended for the safety of life and property on navigable waters during these events. During the enforcement periods, no person or vessel may enter the respective safety zone without the permission of the Captain of the Port Buffalo or a designated representative.

DATES: The Coast Guard will enforce regulations listed in 33 CFR 165.939 Table 165.939, under (b) July Safety Zones, according to the schedule listed in the SUPPLEMENTARY INFORMATION section of this document.

FOR FURTHER INFORMATION CONTACT: If you have questions about this notice of enforcement, call or email LT. Jared Stevens, Waterways Management Division, U.S. Coast Guard Marine Safety Unit Cleveland; telephone 216-937-0124, email D09-SMB-MSUCLEVELAND-WWM@uscg.mil.

SUPPLEMENTARY INFORMATION: The Coast Guard will enforce multiple safety zones for annual events in the Captain of the Port Buffalo Zone listed in 33 CFR 165.939, Table 165.939, (b) July Safety Zones, for events occurring in the month of July as listed in the DATES section above. Pursuant to 33 CFR 165.23, entry into, transiting, or anchoring within these safety zones during an enforcement period is prohibited unless authorized by the Captain of the Port Buffalo or his designated representative. Those seeking permission to enter the safety zone may request permission from the Captain of Port Buffalo via channel 16, VHF-FM. Vessels and persons granted permission to enter the safety zone shall obey the directions of the Captain of the Port Buffalo or his designated representative. While within a safety zone, all vessels shall operate at the minimum speed necessary to maintain a safe course.

The safety zones the Coast Guard will enforce are listed in 33 CFR 165.939 Table 165.939 under (b) July Safety Zones and are:

(3) High Speed Boat Races (Eastlake Willoughby Offshore Grand Prix)—from 11:45 p.m. through 5:15 p.m. on July 8 and 9, 2023;

(4) Downtown Cleveland Alliance July 4th Fireworks (Cleveland July 4th Fireworks)—from 9:45 p.m. through 10:45 p.m. on July 4, 2023;

(5) Mentor Harbor Yacht Club Fireworks (Mentor Harbor Yacht Club)—from 9:15 p.m. through 10:45 p.m. on July 3, 2023;

(7) Lorain Independence Day Celebration (Lorain Independence Day Fireworks Display)—from 9:45 p.m. through 10:15 p.m. on July 4, 2023;

(8) Conneaut Festival (Conneaut Port Authority 4th of July Fireworks Display)—from 9:45 p.m. through 10:45 p.m. on July 3, 2023;

(9) Fairport Harbor Mardi Gras—from 9:45 p.m. through 10:45 p.m. on July 2, 2023;

(10) Sheffield Lake Community Days (City of Sheffield Lake Fireworks)—from 8:45 p.m. through 10:45 p.m. on July 21, 2023;

(11) Bay Village Independence Day Celebration—from 9:45 p.m. through 10:45 p.m. on July 4, 2023;

(12) Lake Erie Open Water Swim (2023 Brogan Open Water Classic)—from 6:45 a.m. through 11:15 a.m. on July 22, 2023; and

(30) Wine and Walleye Festival Fireworks (Wine and Walleye Fireworks)—from 8:15 p.m. through 11 p.m., on July 22, 2023.

This notice of enforcement is issued under authority of 33 CFR 165.939 and 5 U.S.C. 552(a). In addition to this notice of enforcement in the Federal Register, the Coast Guard will provide the maritime community with advance notification of this enforcement period via Broadcast Notice to Mariners or Local Notice to Mariners. If the Captain of the Port Buffalo determines that the safety zone need not be enforced for the full duration stated in this notice, he may use a Broadcast Notice to Mariners to grant general permission to enter the respective safety zone.

Dated: March 27, 2023.
J.B. Bybee,
Commander, U.S. Coast Guard, Captain of the Port Buffalo.

[FR Doc. 2023-06636 Filed 3-30-23; 8:45 am]

BILLING CODE 9110-04-P